DEPARTMENT OF HEALTH AND HUMAN SERVICES

National Institutes of Health

Center for Scientific Review; Amended Notice of Meeting

Notice is hereby given of a change in the meeting of the Center for Scientific Review Special Emphasis Panel; RFA-EB-21-001 Technology Development to Reduce Health Disparities, May 30, 2025, 09:00 a.m. to May 30, 2025, 04:00 p.m., National Institutes of Health, Rockledge II, 6701 Rockledge Drive, Bethesda, MD 20892 which was published in the Federal Register on May 01, 2025, 90 FR 18693, FR Doc No. 2025-07594.

This meeting is being amended due to SRO changed from Dr. Vinod Charles to Dr. Yoon-Young Jang. The meeting is closed to the public.

Dated: May 7, 2025.
Sterlyn H. Gibson,
Program Specialist, Office of Federal Advisory Committee Policy.

[FR Doc. 2025-08303 Filed 5-9-25; 8:45 am]

BILLING CODE 4140-01-P